DEPARTMENT OF THE TREASURY

Financial Crimes Enforcement Network; Bank Secrecy Act Advisory Group; Solicitation of Application for Membership

AGENCY: Financial Crimes Enforcement Network (FinCEN), Treasury.

ACTION: Notice.

SUMMARY: FinCEN is inviting the public to nominate financial organizations and trade groups for membership on the Bank Secrecy Act Advisory Group. New members will be selected for three-year membership terms.

DATES: Nominations must be received by January 8, 2007.

ADDRESSES: Applications may be mailed (not sent by facsimile) to Regulatory Policy and Programs Division, Financial Crimes Enforcement Network, P.O. BOX 39, Vienna, VA 22183 or e-mailed to: BSAAG@fincen.gov.

FOR FUTHER INFORMATION CONTACT: Yesenia Armijo, Regulatory Policy Specialist at 202-354-6400.

SUPPLEMENTARY INFORMATION: The Annunzio-Wylie Anti-Money Laundering Act of 1992 required the Secretary of the Treasury to establish a Bank Secrecy Act Advisory Group (BSAAG) consisting of representatives from Federal regulatory and law enforcement agencies, financial institutions, and trade groups subject to the reporting requirements of the Bank Secrecy Act, 31 CFR 103 et seq. or Section 6050I of the Internal Revenue Code of 1986. The BSAAG is the means by which the Secretary receives advice on the operations of the Bank Secrecy Act. As chair of the BSAAG, the Director of FinCEN is responsible for ensuring that relevant issues are placed before the BSAAG for review, analysis, and discussion. Ultimately, the BSAAG will make policy recommendations to the Secretary on issues considered.

New members will be selected to serve a three-year term. Applications should consist of:

• Point of contact, title, address, e-mail address, phone number

• Description of the financial institution or trade group and its involvement with the Bank Secrecy Act, 31 C.F.R. 103 et seq.

• Reasons why its participation on the BSAAG will bring value to the group Entities may nominate themselves.

FinCEN is interested in bringing representatives from state regulatory agencies, state regulator trade groups, self-regulatory organizations, industry trade groups, and industry members together with federal law enforcement and federal regulatory agencies to help advise the Secretary of the Treasury on matters relating to the administration of the Bank Secrecy Act. Members must be able and willing to make the necessary time commitment to participate on sub-committees throughout the year by phone and attend biannual plenary meetings held in Washington DC in the spring and fall. Members will not be remunerated for their time, services, or travel.

In making the selections, FinCEN will seek to complement current BSAAG members in terms of affiliation, industry, and geographic representation. The Director of FinCEN retains full discretion on all membership decisions. The Director may consider prior years' applications when making selections and does not limit consideration to institutions nominated by the public when making its selection.

Based on current BSAAG position openings we encourage applications from the following sectors or types of organizations with experience working on the Bank Secrecy Act:

• State Regulatory Agency (1 vacancy)

• State Regulator Trade Group (1 vacancy)

• Industry Trade Group—Banking Sector (1 vacancy)

• Industry Trade Group—Casino (1 vacancy)

• Industry Trade Group—Precious Metals, Stones, and Jewels (1 vacancy) ¹

• Industry Trade Group—Money Services Business Sector (1 vacancy)

• Industry Representatives Banking (2 vacancies)

• Industry Representatives Securities/ Futures (2 vacancies) ²

• Industry Representatives Money Services Business (1 vacancy)

BSAAG members whose terms end as of February 28, 2007 ³, are:

State Regulatory Agency

• New York State Banking Department

State Regulator Trade Group

• California Bankers Association.

Industry Trade Group—Banking Sector

• Independent Community Bankers Association

Industry Trade Group—Casino

• American Gaming Association.

Industry Trade Group—Money Services Business Sector

• Financial Service Center of America

Industry Representatives Banking

• Branch Bank & Trust

• Pentagon Federal Credit Union

Industry Representatives Securities/ Futures

• Morgan Stanley

Industry Representatives Money Services Business

• American Express

Dated: November 30, 2006.
Robert W. Werner,
Director, Financial Crimes Enforcement Network.

¹ This is a newly created position in light of the decision adopted at the May 2006 BSAAG Plenary.

² An additional position was created in light of the decision adopted at the May 2006 BSAAG Plenary.

³ State regulatory agencies, state regulator trade groups, self-regulatory organizations, and industry trade groups can serve renewable three-year terms at the discretion of the Director of FinCEN. Industry members may not serve consecutive terms but may serve multiple terms.

[FR Doc. E6-20709 Filed 12-6-06; 8:45 am]

BILLING CODE 4810-02-P